DEPARTMENT OF COMMERCE

International Trade Administration

[A-570-919]

Electrolytic Manganese Dioxide From the People's Republic of China: Rescission of Antidumping Duty Administrative Review; 2016-2017

AGENCY: Enforcement and Compliance, International Trade Administration, Department of Commerce.

SUMMARY: The Department of Commerce (Commerce) is rescinding the administrative review of the antidumping duty order on electrolytic manganese dioxide from the People's Republic of China (China) for the period of review (POR) October 1, 2016, through September 30, 2017.

DATES: Applicable March 28, 2018.

FOR FURTHER INFORMATION CONTACT: Celeste Chen or Jeffrey Pedersen, AD/CVD Operations, Office IV, Enforcement and Compliance, International Trade Administration, U.S. Department of Commerce, 1401 Constitution Avenue NW, Washington, DC 20230; telephone: (202) 482-0890 or (202) 482-2769, respectively.

SUPPLEMENTARY INFORMATION:

Background

On October 4, 2017, Commerce published in the Federal Register a notice of opportunity to request an administrative review of the antidumping duty order on electrolytic manganese dioxide from China for the POR October 1, 2016, through September 30, 2017.¹ On October 31, 2017, in accordance with section 751(a) of the Tariff Act of 1930, as amended (the Act), and 19 CFR 351.213(b), Duracell, Inc. (the petitioner), requested a review of the order with respect to Shenzhen Pengcheng South Industry and Trade Co., Ltd. (Shenzhen Pengcheng).² On December 7, 2017, in accordance with section 751(a) of the Act and 19 CFR 351.221(c)(1)(i), Commerce initiated an administrative review of the antidumping duty order on electrolytic manganese dioxide from China with respect to this company.³ On February 5, 2018, Duracell timely withdrew its request for an administrative review of Shenzhen Pengcheng.⁴ No other party requested a review.

¹ See Antidumping or Countervailing Duty Order, Finding, or Suspended Investigation; Opportunity to Request Administrative Review, 82 FR 46217 (October 4, 2017).

² See Letter from Duracell, “Electrolytic Manganese Dioxide from the People's Republic of China: Request for Administrative Review,” dated October 31, 2017.

³ See Initiation of Antidumping and Countervailing Duty Administrative Reviews, 82 FR 57705 (December 7, 2017) (Initiation Notice).

⁴ See Letter from Duracell, “Antidumping Duty Administrative Review of Electrolytic Manganese Dioxide from the People's Republic of China: Withdrawal of Request for Administrative Review,” dated February 5, 2018.

Commerce exercised its discretion to toll all deadlines affected by the closure of the Federal Government from January 20 through 22, 2018. If the new deadline falls on a non-business day, in accordance with Commerce's practice, the deadline will become the next business day.⁵

⁵ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Rescission of Review

Pursuant to 19 CFR 351.213(d)(1), Commerce will rescind an administrative review, in whole or in part, if the party that requested the review withdraws its request within 90 days of the publication date of the notice of initiation of the requested review. Duracell withdrew its request for review within the 90-day deadline. Because Commerce received no other requests for review of the above-referenced company, and no other requests were made for a review of the antidumping duty order on electrolytic manganese dioxide from China with respect to other companies, we are rescinding the administrative review covering the period October 1, 2016, through September 30, 2017 in full, in accordance with 19 CFR 351.213(d)(1).

Assessment

Commerce will instruct U.S. Customs and Border Protection (CBP) to assess antidumping duties on all appropriate entries of electrolytic manganese dioxide from China during the POR at rates equal to the cash deposit rate for estimated antidumping duties required at the time of entry, or withdrawal from warehouse, for consumption, in accordance with 19 CFR 351.212(c)(1)(i). Commerce intends to issue appropriate assessment instructions to CBP 15 days after the date of publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of the antidumping duties occurred and the subsequent assessment of doubled antidumping duties.

Notification Regarding Administrative Protective Order

This notice also serves as the only reminder to parties subject to administrative protective orders (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

This notice is published in accordance with section 751(a)(1) and 777(i)(1) of the Act, and 19 CFR 351.213(d)(4).

Dated: March 22, 2018.
James Maeder,
Associate Deputy Assistant Secretary for Antidumping and Countervailing Duty Operations, performing the duties of Deputy Assistant Secretary for Antidumping and Countervailing Duty Operations.

[FR Doc. 2018-06209 Filed 3-27-18; 8:45 am]

BILLING CODE 3510-DS-P